DEPARTMENT OF THE INTERIOR

Geological Survey

[GC21NF00GWP2800; OMB Control Number 1028-NEW]

Agency Information Collection Activities; Submission to the Office of Management and Budget for Review and Approval; Michindoh Glacial Aquifer Groundwater Study

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before October 12, 2021.

ADDRESSES: Written comments and recommendations for the proposed information collection should be sent within 30 days of publication of this notice to www.reginfo.gov/public/do/PRAMain. Find this particular information collection by selecting “Currently under 30-day Review—Open for Public Comments” or by using the search function. U.S. Geological Survey, Information Collections Officer, 12201 Sunrise Valley Drive, MS 159, Reston, VA 20192; and by email to gs-info_collections@usgs.gov. Please reference OMB Control Number 1028-NEW in the subject line of your comments.

FOR FURTHER INFORMATION CONTACT: To request additional information about this ICR, contact David Lampe by email at dclampe@usgs.gov or by telephone at 317-416-7448. Individuals who are hearing or speech impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 24, 2021 (86 FR 27888). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Synoptic water level measurements are a type of measurement where data is collected from many wells over a short period of time. As part of the effort to collect synoptic measurements of the Michindoh Aquifer, the USGS is relying on the participation of property owners from across the region. Those identified as having a selected water well located on their property will be contacted via a postcard. They will then be asked to sign a permission form allowing the USGS to complete groundwater level measurement in their well during Fall 2021 and Spring 2022. This will involve USGS scientists accessing the well and lowering a sanitized electric or steel tape into the well to determine the current water depth below land surface. The measurement that is collected will also be provided to the property owner at the time of collection.

The USGS will attempt to measure approximately 150 to 200 wells within eleven counties in the tri-state region. This large number of measurements over a short period of time will provide the USGS with a snapshot-like understanding of regional water levels. This information will be critical for comprehending the behavior of the entire aquifer system and will be used to model regional groundwater depth.

Title of Collection: Michindoh Glacial Aquifer Groundwater Study.

OMB Control Number: 1028-NEW.

Form Number: None.

Type of Review: New.

Respondents/Affected Public: Individuals/households.

Total Estimated Number of Annual Responses: 250.

Estimated Completion Time per Response: 15 minutes.

Total Estimated Number of Annual Burden Hours: 63 hours.

Respondent's Obligation: Voluntary.

Frequency of Collection: Once.

Total Estimated Annual Nonhour Burden Cost: None.

An agency may not conduct, or sponsor and a person is not required to respond to a collection of information unless it displays a currently valid OMB control number.

The authority for this action is the Paperwork Reduction Act of 1995 (44 U.S.C. 3501 et seq.).

Michael Griffin,
Director, Ohio-Kentucky-Indiana Water Science Center.

[FR Doc. 2021-19556 Filed 9-9-21; 8:45 am]

BILLING CODE 4338-11-P